DEPARTMENT OF HEALTH AND HUMAN SERVICES

Agency for Toxic Substances and Disease Registry

[30Day-17-16BEH]

Agency Forms Undergoing Paperwork Reduction Act Review

The Agency for Toxic Substances and Disease Registry (ATSDR) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Direct written comments and/or suggestions regarding the items contained in this notice to the Attention: CDC Desk Officer, Office of Management and Budget, Washington, DC 20503 or by fax to (202) 395-5806. Written comments should be received within 30 days of this notice.

Proposed Project

ATSDR Communication Activities Survey (ACAS)—New—Agency for Toxic Substances and Disease Registry (ATSDR).

Background and Brief Description

The Agency for Toxic Substances and Disease Registry (ATSDR) serves the public through responsive public health actions to promote healthy and safe environments and to prevent harmful exposures. The agency aims to work effectively with communities in proximity to hazardous waste sites by listening to and understanding their health concerns and seeking their guidance on where, when, and how to take public health actions.

Community members are key participants in the agency's public health assessment process and should be actively involved in decisions that impact their community. Thus, agency's goals for this new information collection request (ICR) titled the “ATSDR Communication Activities Survey (ACAS)” are to ascertain the effectiveness of, and to assess the differences and the consistency of, the delivery of ATSDR activities and respondent perceptions across sites and over time. ATSDR will use the ACAS to: (1) Determine how effectively it's site teams engage community members; (2) discover how well ATSDR provides effective, clear, and consistent communication and information on how to promote healthy and safe environments; (3) understand whether the agency's activities are helping the communities address environmental issues; and (4) improve ATSDR's activities to make a greater impact within the communities served.

Recruitment will occur at communities where ATSDR and state or local agencies have implemented site activities to address environmental issues. For each engaged community, the ACAS will be used to assess a set of effectiveness indicators for ATSDR site-specific activities about the respondents' involvement, knowledge, satisfaction, observations, and opinions about ATSDR's community engagement and educational outreach efforts to inform communities. The indicators will measure ATSDR effectiveness in the following respondent areas: (1) Their involvement with the site activities; (2) how they received, and prefer to receive, ATSDR information; (3) their knowledge and understanding of ATSDR site activities and how to reduce hazardous exposures; (4) their observations and opinions of ATSDR's role in community preparedness; (5) their self-evaluation on their risk of exposure to possible environmental hazards; (6) their demographic profile; (7) their environmental concerns; and (8) any additional feedback.

ATSDR is seeking a three-year Paperwork Reduction Act clearance for this new ICR. ATSDR anticipates that approximately six to seven sites will be engaged for feedback per year (or about 20 sites over the next three years). Each year, ATSDR will recruit approximately 167 individuals per year, aged 18 and older, to participate in the ACAS where ATSDR is holding public community meetings. Therefore, respondents will include approximately 24 to 28 community members and agency stakeholders per meeting (6 to 7 meetings per year). The community members may include, but are not limited to, the general public, community leaders, faith-based leaders, and business leaders. The agency stakeholders may include, but are not limited to, state and local environmental health department employees, such as environmental health assessors, toxicologists, and departmental officials. The mix of respondents will be approximately 75 percent community members (n=125 per year) and 25 percent agency stakeholders (n=42 per year).

Trained ATSDR contractors will have a table set up at the entrance of the community meeting where community meeting attendees will pick up a fact sheet which explains what ATSDR does, and the purpose of ATSDR's site activities and the survey.

At the end of ATSDR public community meetings, there will be an announcement to ask interested attendees to take the survey. All interested attendees will sign in and provide their contact information, their preferred mode for taking the survey (in-person, online or over the phone), and whether they are a community member or an agency stakeholder.

The ACAS will preferably be self-administered right after the public community meetings. If this is not a convenient time for the respondent, the ACAS may be completed online or by phone. We estimate that approximately 80 percent of respondents will choose the self-administered ACAS, 15 percent will choose the online ACAS, and 5 percent will choose the telephone ACAS.

There are no costs to the respondents other than their time. The total annual time burden requested is 94 hours per year.

Estimated Annualized Burden Hours

Type of respondents | Form name | Number of respondents | Number of responses per respondent | Avg. burden per response (in hrs.)
Community Members | Sign In Sheet | 125 | 1 | 3/60
| Hardcopy ACAS | 100 | 1 | 30/60
| Online ACAS | 19 | 1 | 30/60
| Telephone ACAS | 6 | 1 | 30/60
Agency Stakeholders | Sign In Sheet | 42 | 1 | 3/60
| Hardcopy ACAS | 34 | 1 | 30/60
| Online ACAS | 6 | 1 | 30/60
| Telephone ACAS | 2 | 1 | 30/60

Leroy A. Richardson,
Chief, Information Collection Review Office, Office of Scientific Integrity, Office of the Associate Director for Science, Office of the Director, Centers for Disease Control and Prevention.

[FR Doc. 2016-31554 Filed 12-28-16; 8:45 am]

BILLING CODE 4163-18-P